INTERNATIONAL TRADE COMMISSION

[Investigation No. 731-TA-891 (Second Review)]

Foundry Coke From China

Determination

On the basis of the record ¹ developed in the subject five-year review, the United States International Trade Commission (Commission) determines, pursuant to section 751(c) of the Tariff Act of 1930 (19 U.S.C. 1675(c)), that revocation of the antidumping duty order on foundry coke from China would be likely to lead to continuation or recurrence of material injury to an industry in the United States within a reasonably foreseeable time.

¹ The record is defined in sec. 207.2(f) of the Commission's Rules of Practice and Procedure (19 CFR 207.2(f)).

Background

The Commission instituted this review on December 1, 2011 (76 FR 74810) and determined on March 5, 2012 that it would conduct an expedited review (77 FR 15123, March 14, 2012).

The Commission transmitted its determination in this review to the Secretary of Commerce on May 29, 2012. The views of the Commission are contained in USITC Publication 4326 (May 2012), entitled Foundry Coke from China: Investigation No. 731-TA-891 (Second Review).

By order of the Commission.
Issued: May 30, 2012.
Lisa R. Barton,
Acting Secretary to the Commission.

[FR Doc. 2012-13438 Filed 6-1-12; 8:45 am]

BILLING CODE 7020-02-P